DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than January 5, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Health Professions Student Loan (HPSL) Program and Nursing Student Loan (NSL) Program Administrative Requirements (Regulations and Policy).

OMB No. 0915-0047—Extension.

Abstract: The statutory authorities for the Health Professions Student Loan (HPSL) Program, as authorized by Public Health Service (PHS) Act sections 721-722, and 725-735, and the Nursing Student Loan (NSL) Program, as authorized by PHS Act sections 835-842, contain a number of recordkeeping and reporting requirements for academic institutions and loan applicants. The applicable regulations for these programs under 42 CFR part 57 details the various requirements (see chart below).

Need and Proposed Use of the Information: The requirements are essential for assuring that borrowers are aware of their rights and responsibilities, academic institutions have accurate records of the history and status of each loan account in order to pursue aggressive collection efforts to reduce default rates, and that academic institutions maintain adequate records for audit and assessment purposes to help the U.S. Department of Health and Human Services safeguard federal funds made through the Federal Capital Contribution (FCC). Academic institutions are free to use improved information technology to manage the information required by the regulations.

Likely Respondents: Financial Aid Directors working at institutions participating in the HPSL and NSL Programs.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Recordkeeping Requirements
Regulatory/section requirements | Number of record keepers | Hours per year | Total burden hours
HPSL Program:
57.206(b)(2), Documentation of Cost of Attendance | 50 | 325 | 16,250
57.208(a), Promissory Note | 90 | 325 | 29,250
57.210((b)(1)(i), Documentation of Entrance Interview | 40 | 325 | 13,000
57.210(b)(1)(ii), Documentation of Exit Interview | 80 | 334 | 26,720
57.215(a)&(d), Program Records | 140 | 334 | 46,760
57.215(b), Student Records | 70 | 334 | 23,380
57.215(c), Repayment Records | 150 | 334 | 50,100
HPSL Subtotal |  |  | 205,460
NSL Program:
57.306(b)(2)(ii), Documentation of Cost of Attendance | 16.0 | 282 | 4,512
57.308(a), Promissory Note | 4.5 | 282 | 1,269
57.310(b)(1)(i), Documentation of Entrance Interview | 1.5 | 282 | 423
57.310(b)(1)(ii), Documentation of Exit Interview | 1.5 | 348 | 522
57.315(a)(1)&(a)(4), Program Records | 21.0 | 348 | 7,308
57.315(a)(2), Student Records | 8.5 | 348 | 2,958
57.315(a)(3), Repayment Records | 5.0 | 348 | 1,740
NSL Subtotal |  |  | 18,732
* Includes active and closing schools.
HPSL data includes active and closing Loans for Disadvantaged Students (LDS) program schools.

Reporting Requirements
Regulatory/section requirements | Number of respondents | Responses per respondent | Total annual responses | Hours per response | Total hour burden
HPSL Program:
57.206(a)(2), Student Financial Aid Transcript | n/a |  |  |  |
57.208(c), Loan Information Disclosure | 325 | 299.5 | 97,338 | 0.63 | 60,836
57.210(b)(1)(i), Entrance Interview | 325 | 139.5 | 45,338 | 0.50 | 22,669
57.210(b)(1)(ii), Exit Interview | 334 | 113.5 | 37,909 | 1.00 | 37,909
57.210(b)(1)(iii), Notification of Repayment | 334 | 862.5 | 288,075 | 0.38 | 108,028
57.210(b)(1)(iv), Notification During Deferment | 334 | 17.0 | 5,678 | 0.63 | 3,549
57.210(b)(1)(vi), Notification of Delinquent Accounts | 334 | 172.5 | 57,615 | 1.25 | 72,019
57.210(b)(1)(x), Credit Bureau Notification | 334 | 6 | 2,004 | 0.50 | 1,002
57.210(b)(4)(i), Write-off of Uncollectible Loans | 5 | 1 | 5 | 3.00 | 15
57.211(a) Disability Cancellation | 3 | 1 | 3 | 1.00 | 3
57.215(a)(2), Administrative Hearings | 0 | 0 | 0 | 0 | 0
57.215(a)(d), Administrative Hearings | 0 | 0 | 0 | 0 | 0
HPSL Subtotal |  |  |  |  | 306,029
NSL Program:
57.306(a)(2), Student Financial Aid Transcript |  |  |  |  |
57.310(b)(1)(i), Entrance Interview | 282 | 17.5 | 4,935 | 0.42 | 2,048
57.310(b)(1)(ii), Exit Interview | 348 | 9.0 | 3,132 | 0.42 | 1,300
57.301(b)(1)(iii), Notification of Repayment | 348 | 9.0 | 3,132 | 0.27 | 830
57.310(b)(1)(iv), Notification During Deferment | 348 | 1.5 | 522 | 0.29 | 151
57.310(b)(1)(vi), Notification of Delinquent Accounts | 348 | 42.5 | 14,790 | 0.04 | 592
57.310(b)(1)(x), Credit Bureau Notification | 348 | 709.0 | 246,732 | 0.00 | 86
57.310(b)(4)(i), Write-off of Uncollectible Loans | 23 | 1.0 | 23 | 3.00 | 69
57.311(a), Disability Cancellation | 16 | 1.0 | 16 | 1.00 | 16
57.315(a)(1)(ii), Administrative Hearings | 0 | 0 | 0 | 0 | 0
57.316(a)(d), Administrative Hearings | 0 | 0 | 0 | 0 | 0
NSL Subtotal |  |  |  |  | 5,092
*Includes active and closing schools.

Jackie Painter,
Acting Director, Division of Policy and Information Coordination.

[FR Doc. 2014-28555 Filed 12-4-14; 8:45 am]

BILLING CODE 4165-15-P